DEPARTMENT OF HOMELAND SECURITY

U.S. Customs and Border Protection

[Docket No. USCBP-2021-0006]

Commercial Customs Operations Advisory Committee (COAC)

AGENCY: U.S. Customs and Border Protection (CBP), Department of Homeland Security (DHS).

ACTION: Committee management; notice of Federal Advisory Committee Meeting.

SUMMARY: The Commercial Customs Operations Advisory Committee (COAC) will hold its quarterly meeting on Wednesday, March 17, 2021. The meeting will be open to the public via webinar only. There is no on-site, in-person option for this quarterly meeting.

DATES: The COAC will meet on Wednesday, March 17, 2021, from 1:00 p.m. to 5:00 p.m. EDT. Please note that the meeting may close early if the committee has completed its business. Comments must be submitted in writing no later than March 16, 2021.

ADDRESSES: The meeting will be held via webinar. The webinar link and conference number will be provided to all registrants by 5:00 p.m. EDT on March 16, 2021. For information on facilities or services for individuals with disabilities or to request special assistance at the meeting, contact Ms. Florence Constant-Gibson, Office of Trade Relations, U.S. Customs and Border Protection, at (202) 344-1440 as soon as possible.

FOR FURTHER INFORMATION CONTACT: Ms. Florence Constant-Gibson, Office of Trade Relations, U.S. Customs and Border Protection, 1300 Pennsylvania Avenue NW, Room 3.5A, Washington, DC 20229; or Ms. Valarie M. Neuhart, Designated Federal Officer at (202) 344-1440.

SUPPLEMENTARY INFORMATION: Notice of this meeting is given under the authority of the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Pre-registration: For members of the public who plan to participate via webinar, please register online at https://teregistration.cbp.gov/index.asp?w=219 by 5:00 p.m. EDT by March 16, 2021. For members of the public who are pre-registered to attend the webinar and later need to cancel, please do so by March 15, 2021 utilizing the following link: https://teregistration.cbp.gov/cancel.asp?w=219.

Please feel free to share this information with other interested members of your organization or association.

To facilitate public participation, we are inviting public comment on the issues the committee will consider prior to the formulation of recommendations as listed in the Agenda section below.

Comments must be submitted in writing no later than March 16, 2021, and must be identified by Docket No. USCBP-2021-0006, and may be submitted by one (1) of the following methods:

• Federal eRulemaking Portal: http://www.regulations.gov. Follow the instructions for submitting comments.

• Email: tradeevents@cbp.dhs.gov. Include the docket number in the subject line of the message.

• Mail: Ms. Florence Constant-Gibson, Office of Trade Relations, U.S. Customs and Border Protection, 1300 Pennsylvania Avenue NW, Room 3.5A, Washington, DC 20229.

Instructions: All submissions received must include the words “Department of Homeland Security” and the docket number (USCBP-2021-0006) for this action. Comments received will be posted without alteration at http://www.regulations.gov. Please do not submit personal information to this docket.

Docket: For access to the docket or to read background documents or comments, go to http://www.regulations.gov and search for Docket Number USCBP-2021-0006. To submit a comment, click the “Comment Now!” button located on the top-right hand side of the docket page.

There will be multiple public comment periods held during the meeting on March 17, 2021. Speakers are requested to limit their comments to two (2) minutes or less to facilitate greater participation. Please note that the public comment period for speakers may end before the time indicated on the schedule that is posted on the CBP web page, http://www.cbp.gov/trade/stakeholder-engagement/coac.

Agenda

The COAC will hear from the current subcommittees on the topics listed below and then will review, deliberate, provide observations, and formulate recommendations on how to proceed:

1. The Next Generation Facilitation Subcommittee will provide an update on the following working groups: The Unified Entry Processes Working Group will provide an update on the current status of the development of objectives for the future entry environment to enable faster and more secure entry processing; the Emerging Technologies Working Group will provide an update on the University of Houston's block chain assessment report; and, the One U.S. Government Working Group will provide an update on several key projects, including the Partner Government Agency Disclaim Handbook and the automation of currently required original/hard copy documents at time of entry.

2. The Rapid Response Subcommittee will provide an update on the progress of the Broker Exam Modernization Working Group efforts to improve the testing experience for the April 2021 exam, as well as future broker exams. The U.S.-Mexico-Canada Agreement (USMCA) Working Group has reconvened and will provide an update regarding its goals and objectives.

3. The Intelligent Enforcement Subcommittee will provide updates on the following Working Groups: The Bond Working Group will report on the continued work with CBP on the Monetary Guidelines of Setting Bond Amounts as part of a larger risk-based bonding initiative; the Anti-Dumping and Countervailing Duty (AD/CVD) Working Group will report on the discussions surrounding non-resident importers and the impact this has on AD/CVD enforcement along with recommended solutions; the Intellectual Property Rights (IPR) Process Modernization Working Group will provide updates on development of several recommendations put forth during the April 2020 COAC meeting and will submit recommendations furthering the modernization of the IPR Process; and, the Forced Labor Working Group will provide a summary of the areas of focus that will be in its scope for the upcoming quarter.

4. The Secure Trade Lanes Subcommittee will present updates on the following Working Groups: The Trusted Trader Working Group's progress in developing the CBP White Paper for the Implementation of C-TPAT Trade Compliance Requirements for Forced Labor; the In-Bond Working Group's ongoing work with the technical enhancements that have been shared with the Trade Support Network, as well as the review of regulatory recommendations for future development; the Export Modernization Working Group's progress in developing the Export Operations for the 21st Century White Paper mentioned during the October 7, 2020 COAC meeting; and, the Remote and Autonomous Cargo Processing Working Group's progress reviewing the various modes of conveyance and automation opportunities.

Meeting materials will be available by March 15, 2021, at: http://www.cbp.gov/trade/stakeholder-engagement/coac/coac-public-meetings.

Dated: February 15, 2021.
Valarie M. Neuhart,
Deputy Executive Director, Office of Trade Relations.

[FR Doc. 2021-03365 Filed 2-18-21; 8:45 am]

BILLING CODE 9111-14-P